DEPARTMENT OF COMMERCE

National Institute of Standards and Technology

15 CFR Parts 295 and 296

[Docket No. 260210-0042]

RIN 0693-AB72

Eliminating Obsolete Regulations Related to the Advanced Technology Program and the Technology Innovation Program

AGENCY: National Institute of Standards and Technology (NIST), Department of Commerce (Department).

ACTION: Final rule.

SUMMARY: By this rule, NIST removes the regulations outlining the Advanced Technology Program (ATP) and the Technology Innovation Program (TIP), both of which now lack authorization and, operationally, are no longer active. This action is necessary to reflect the repeal of the underlying statutory provision and to ensure that NIST's regulations remain current and up-to-date. This action is intended to minimize the risk of confusion and/or distraction and to promote efficiency.

DATES: The rule is effective February 19, 2026.

FOR FURTHER INFORMATION CONTACT: Daniel Sweeney, Senior Counsel, Office of the General Counsel, at (202) 482-1395.

SUPPLEMENTARY INFORMATION: This action eliminates NIST's regulations at 15 CFR parts 295 and 296, which outline the ATP and the TIP, respectively. The ATP and the TIP were grant programs operated by NIST and related to the development of technology. Part 295, which outlines the ATP, was promulgated by a final rule published on July 24, 1990 (55 FR 30145); and part 296, which outlines the TIP, was promulgated by a final rule published on June 25, 2008 (73 FR 35915). Both parts were promulgated pursuant to 15 U.S.C. 278n, and 15 U.S.C. 278n is their cited statutory authority. But 15 U.S.C. 278n has since been repealed. See Public Law 114-329, Title II, § 205(a)(1), Jan. 6, 2018, 130 Stat. 3000. And neither the ATP nor the TIP is operationally active today. The elimination of 15 CFR parts 295 and 296 is therefore necessary to remove outdated regulatory language, minimize the possibility of public confusion regarding the status of these programs, and ensure that NIST's regulations remain accurate and up-to-date.

Regulatory Classifications

A. Administrative Procedure Act

Pursuant to 5 U.S.C. 553(b)(B), the Department finds good cause to waive the prior notice and opportunity for public participation requirements of the Administrative Procedure Act for this final rule. The Department considers this rule to be uncontroversial, and has determined that prior notice and opportunity for public participation is unnecessary, because this rule only removes two regulations that both lack a valid statutory authorization, no longer serve any purpose, and pose some genuine risk of confusing the public; public participation would not justify the continued maintenance of either 15 CFR part 295 or 15 CFR part 296 under the Department's regulatory policy. For the same reason, the Department has determined that delaying the effectiveness of this elimination would be contrary to the public interest. Eliminating parts 295 and 296, which are obsolete and pose some risk of confusion, will immediately benefit the public at little to no cost. The Department therefore finds good cause to waive the public notice and comment period under 553(b)(B) and to waive the 30-day delay in effectiveness under 553(d).

B. Executive Orders 12866, 14192, and 13132

The Office of Management and Budget has determined this rule is not significant pursuant to Executive Order (E.O.) 12866. This rule is an E.O. 14192 deregulatory action. This rule does not contain policies having federalism implications as the term is defined in E.O. 13132.

C. Regulatory Flexibility Act

Because a notice of proposed rulemaking and an opportunity for public participation are not required to be given for this rule by 5 U.S.C. 553(b)(B), the analytical requirements of the Regulatory Flexibility Act (5 U.S.C. 601 et seq.) are not applicable. Accordingly, no regulatory flexibility analysis is required, and none has been prepared.

D. Paperwork Reduction Act

This rule will not impose additional reporting or recordkeeping requirements under the Paperwork Reduction Act of 1995, 44 U.S.C. 3501, et seq.

List of Subjects for 15 CFR Parts 295 and 296

Business and industry, Grant programs—science and technology, Inventions and patents, Reporting and recordkeeping requirements, Research, Science and technology.

Alicia Chambers,
NIST Executive Secretariat.

PARTS 295 AND 296—[REMOVED AND RESERVED]

Accordingly, for the reasons set forth above and under the authority of 15 U.S.C. 277, parts 295 and 296 of title 15 of the Code of Federal Regulations are removed and reserved.

[FR Doc. 2026-03303 Filed 2-18-26; 8:45 am]

BILLING CODE 3510-13-P